DEPARTMENT OF HOUSING AND URBAN DEVELOPMENT

[Docket No. FR-4837-D-20]

Revocation and Redelegation of Administrative Authority for Title VI of the Civil Rights Act of 1964

AGENCY: Office of the Assistant Secretary for Fair Housing and Equal Opportunity, HUD.

ACTION: Notice of revocation and redelegation of authority.

SUMMARY: The Assistant Secretary for Fair Housing and Equal Opportunity (FHEO) revokes all prior redelegations of authority under Title VI of the Civil Rights Act of 1964 made within the Office of Assistant Secretary for FHEO and redelegates this authority to act as the “responsible Department official,” with noted exceptions, to the General Deputy Assistant Secretary, who in turn, redelegates certain authority to the Deputy Assistant Secretary for Enforcement and Programs, to the Director of the Office of Enforcement, and to the FHEO HUB Directors.

EFFECTIVE DATE: July 25, 2003.

FOR FURTHER INFORMATION CONTACT: Karen A. Newton, Deputy Assistant Secretary for Operations and Management, Office of Fair Housing and Equal Opportunity, Department of Housing and Urban Development, 451 Seventh Street, SW., Room 5128, Washington, DC 20410-0001, telephone (202) 708-0768. (This is not a toll-free number.) Hearing- and speech-impaired individuals may access this number through TTY by calling the toll-free Federal Information Relay Service number at (800) 877-8339.

SUPPLEMENTARY INFORMATION: By previous delegation (36 FR 8821, May 13, 1971), the Secretary of HUD delegated the Secretary's authority, with an exception for the authority in 24 CFR 1.4(b)(2)(ii), to act as the “responsible Department official” in all matters relating to carrying out the requirements under Title VI of the Civil Rights Act of 1964 (42 U.S.C. 2000d), to the Assistant Secretary for Equal Opportunity (now the Assistant Secretary for FHEO).

The provisions of Title VI are implemented in the regulations in 24 CFR part 1. A new delegation of authority in which the Secretary delegates to the Assistant Secretary for FHEO authority, with noted exceptions, to act as the “responsible Department official” in matters relating to the carrying out of the requirements of Title VI of the 1964 Civil Rights Act, is being published concurrently with this redelegation of authority.

Accordingly, in this notice, the Assistant Secretary for FHEO redelegates the authority, with noted exceptions, to act as the “responsible Department official” under Title VI of the 1964 Civil Rights Act and its implementing regulations.

Section A. Authority Redelegated

With certain exceptions noted in Section B, the Assistant Secretary for FHEO redelegates to the General Deputy Assistant Secretary for FHEO the authority, under Title VI as provided in 24 CFR part 1, to act as the “responsible Department official” in matters delegated to the Assistant Secretary for FHEO. The General Deputy Assistant Secretary for FHEO further redelegates this authority, with noted exceptions noted in Section B, to the Deputy Assistant Secretary for Enforcement and Programs, to the Director of the Office of Enforcement, and to the FHEO Hub Directors.

Section B. Authority Excepted

The authority redelegated in this notice does not include the authority to issue or to waive regulations. The authority redelegated by the Assistant Secretary for FHEO to the General Deputy Assistant Secretary in this notice does not include the authority to terminate, refuse to grant, or refuse to continue federal financial assistance (see 24 CFR 1.8(c)). The authority redelegated by the General Deputy Assistant Secretary for FHEO to the FHEO Hub Directors does not include the authority under 24 CFR 1.8(a) and (d) to refer to the Department of Justice (DOJ) unresolved findings of non-compliance or to seek compliance through referral to DOJ or “other means authorized by law.”

Section C. Delegations of Authority Revoked

All prior redelegations of authority under Title VI of the Civil Rights Act of 1964 made within the Office of the Assistant Secretary for FHEO are revoked, including the redelegation published on May 13, 1971 (36 FR 8821).

Authority: Section 7(d) of the Department of Housing and Urban Development Act (42 U.S.C. 3535(d)).

Dated: July 25, 2003.
Carolyn Y. Peoples,
Assistant Secretary for Fair Housing and Equal Opportunity.
Floyd O. May,
General Deputy Assistant Secretary for Fair Housing and Equal Opportunity.

[FR Doc. 03-19787 Filed 8-1-03; 8:45 am]

BILLING CODE 4210-28-P